Proclamation 7407 of February 7, 2001

National Burn Awareness Week, 2001

By the President of the United States of America

A Proclamation

Burn injuries are a serious problem in the United States. Each year, over 3,000 people die and 16,000 are injured by fires that start in the home. These fires cost the Nation over $18 billion. Tragically, children, the elderly, and persons with disabilities are those most likely to become victims of serious burns. Children are particularly vulnerable. Each year, about 800 children under the age of 15 die of fire-related causes and about 500 of these deaths are to children under the age of 5 years. In fact, children under age 5 have a death rate from fire more than twice the national average.

All Americans can make their homes safer by making sure they have a working smoke alarm. About 90 percent of U.S. households have smoke alarms. However, a recent survey found that smoke alarms in 20 percent of those households—about 16 million—were not working, mostly because the battery was dead or missing. Those families who have not yet done so should place a smoke alarm inside each sleeping room and on each level of a multi- story home and make sure the alarms are tested monthly and the batteries are replaced when necessary.

We should also learn what to do in the event of fire, including the “stop, drop, and roll” maneuver that can help prevent serious burn injuries. Those families that have not yet done so should make plans for escaping a house fire—and every American family should review and practice the plan regularly.

The U.S. Consumer Product Safety Commission (CPSC) helps to keep children and families safe from products that pose fire dangers. CPSC activities have contributed to a decline in fires and fire deaths over the past several years. For example, CPSC's standard for child-resistant lighters has helped reduce fire deaths from children playing with lighters by 43 percent since 1994.

NOW, THEREFORE, I, GEORGE W. BUSH, President of the United States of America, by virtue of the authority vested in me by the Constitution and laws of the United States of America, do hereby proclaim February 4 through February 10, 2001, as National Burn Awareness Week. I call upon all Americans to observe this week by participating in appropriate ceremonies and activities and by learning how to prevent burn injuries, especially to children.

IN WITNESS WHEREOF, I have hereunto set my hand this seventh day of February, in the year of our Lord two thousand one, and of the Independence of the United States of America the two hundred and twenty-fifth.

[FR Doc. 01-3589

Filed 2-8-01;11:50 am]

Billing code 3195-01-P